ENVIRONMENTAL PROTECTION AGENCY

[ER-FRL-8994-3]

Environmental Impact Statements; Notice of Availability

Responsible Agency: Office of Federal Activities, General Information (202) 564-1399 or http://www.epa.gov/compliance/nepa/.

Weekly receipt of Environmental Impact Statements filed 12/13/2010 through 12/17/2010 pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100472, Third Draft Supplement, USAF, FL, Eglin Air Force Base (AFB) and Hurlburt Field, Proposes to Implement the Military Housing Privatization Initiative (MHPI), FL, Comment Period Ends: 02/07/2011, Contact: Mike Spaits 850-882-2836.

EIS No. 20100473, Draft EIS, USACE, TX, Freeport Harbor Channel Improvement Project, Proposes to Deepen and Widen the Freeport Harbor Channel and Associated Turning Basins, Brazoria County, TX, Comment Period Ends: 02/07/2011, Contact: Janelle Stokes 409-766-3039.

EIS No. 20100474, Draft EIS, BLM, CA, East County Substation/Tule Wind/Energia Sierra Juarez Gen-Tie Projects, Construction and Operation, Right-of-Way Grants, San Diego County, CA, Comment Period Ends: 02/07/2011, Contact: Greg Thomsen, 951-697-5237.

EIS No. 20100475, Final EIS, APHIS, 00, Glyphosate-Tolerant Alfalfa Events J101 and J163: Request for Nonregulated Status, Implementation, United States, Wait Period Ends: 01/24/2011, Contact: Rebecca Stankiewicz Gabel 301-851-2300.

This document is available on the Internet at: http://www.regulations.gov/#!documentDetail;D=APHIS-2007-0044-12532.

EIS No. 20100476, Final EIS, USA, 00, Gulf of Mexico Range Complex (GOMEX), Proposed Action is to Support and Conduct Current and Emerging Training and RDT&E Operations, TX, MS, AL and FL, Wait Period Ends: 01/24/2011, Contact: Gloria Kupstas, 703-604-5431.

EIS No. 20100477, Draft EIS, USFS, CA, Kings River Experimental Watershed Forest Health and Research Project, Implementation, Sierra National Forest, High Sierra Ranger District, Fresno County, CA, Comment Period Ends: 02/07/2011, Contact: Judi Tapia, 559-297-0706 Ext. 4938.

EIS No. 20100478, Final EIS, FHWA, OR, Sunrise Project, Proposes to Build a New East-West Oriented, Limited-Access Highway between I-205 to Rock Creek Junction, Funding and US Army COE Section 404 Permit, Clackamas County, Oregon, Wait Period Ends: 01/24/2011, Contact: Michelle Eraut 503-587-4716.

EIS No. 20100479, Final EIS, USACE, GA, Fort McPherson Project, Disposal and Reuse, Implementation, in City Limits of Atlanta, Fulton County, GA, Wait Period Ends: 01/24/2011, Contact: Bob Ross 703-545-2465.

EIS No. 20100480, Draft Supplement, USFS, VT, Deerfield Wind Project, Updated Information, Application for a Land Use Authorization to Construct and Operate a Wind Energy Facility, Special Use Authorization Permit, Towns of Searsburg and Readsboro, Manchester Ranger District, Green Mountain National Forest, Bennington County, VT, Comment Period Ends: 02/18/2011, Contact: Bob Bayer, 802-362-2307 Ext. 218.

Amended Notices

EIS No. 20100462, Draft EIS, FWS, CA, Santa Clara Valley Habitat Plan, To Protect and Enhance Ecological Diversity and Function in the Greater Portion of Santa Clara County, Implementation, Santa Clara County, CA, Comment Period Ends: 04/15/2011, Contact: John Robles, 916-414-6731. Revision to FR Notice Published 12/17/2010: Correction to Comment Period from 01/31/2011 to 04/15/2011.

EIS No. 20100463, Draft EIS, HUD, WA, Sunset Area Community Planned Action, Proposal to Redevelopment of the Sunset Terrace Public Housing Community and Associated Neighborhood Growth and Revitalization, City of Renton, WA, Comment Period Ends: 01/31/2011, Contact: Erika Conkling, 425-430-6578. Revision to FR Notice Published 12/17/2010: Correction to Contact Phone Number.

Dated: December 20, 2010.
Robert W. Hargrove,
Director, NEPA Compliance Division, Office of Federal Activities.

[FR Doc. 2010-32349 Filed 12-22-10; 8:45 am]

BILLING CODE 6560-50-P